NATIONAL CREDIT UNION ADMINISTRATION

Agency Information Collection Activities: Submission to OMB for New Collection Information Collection; Comment Request

AGENCY: National Credit Union Administration (NCUA).

ACTION: New Collection of Information.

SUMMARY: The NCUA intends to submit the following information collection to the Office of Management and Budget (OMB) for review and clearance under the Paperwork Reduction Act of 1995 (Public Law 104-13, 44 U.S.C. Chapter 35). This information collection is published to obtain comments from the public. It was originally published on November 26, 1999 (Vol. 64, No. 227, p. 66507) Five comment letters were received.

DATES: Comments will be accepted until March 13, 2000.

ADDRESSES: Interested parties are invited to submit written comments to NCUA Clearance Officer or OMB Reviewer listed below:

Clearance Officer: Mr. James L. Baylen (703) 518-6411, National Credit Union Administration, 1775 Duke Street, Alexandria, Virginia 22314-3428, Fax No. 703-518-6433, E-mail: jbaylen@ncua.gov.

OMB Reviewer: Alexander T. Hunt (202) 395-7860, Office of Management and Budget, Room 10226, New Executive Office Building, Washington, DC 20503.

FOR FURTHER INFORMATION CONTACT: Copies of the information collection requests, with applicable supporting documentation, may be obtained by calling the NCUA Clearance Officer, James L. Baylen, (703) 518-6411.

SUPPLEMENTARY INFORMATION: Proposal for the following collection of information:

OMB Number: Not applicable.

Form Number: Not applicable.

Type of Review: New collection.

Title: Survey on Service to People of Modest Means.

Description: NCUA is considering policy changes which could result in substantial impact on credit unions. The results of the survey will be used to guide NCUA in the policy making process.

Respondents: Federal credit unions.

Estimated No. of Respondents/Recordkeepers: 6,700.

Estimated Burden Hours Per Response: .5 hours.

Frequency of Response: One-time.

Estimated Total Annual Burden Hours: 3,350.

Estimated Total Annual Cost: $55,844.50.

By the National Credit Union Administration Board on February 3, 2000.

Becky Baker,
Secretary of the Board.

[FR Doc. 00-3039 Filed 2-9-00; 8:45 am]

BILLING CODE 7535-01-U